DEPARTMENT OF THE INTERIOR

Bureau of Land Management

[LLAZ956000.L14200000.BJ0000.241A]

Notice of Filing of Plats of Survey; AZ

AGENCY: Bureau of Land Management, Interior.

ACTION: Notice of filing of plats of survey; Arizona.

SUMMARY: The plat of survey as described below is scheduled to be officially filed in the Arizona State Office, Bureau of Land Management, Phoenix, Arizona, thirty (30) days after the date of publication of this notice in the Federal Register.

FOR FURTHER INFORMATION CONTACT: The plat will be available for inspection in the Arizona State Office, Bureau of Land Management, One North Central Avenue, Suite 800, Phoenix, Arizona 85004-4427; phone 602-417-9200. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Gila and Salt River Meridian, Arizona: The plat representing the dependent resurvey of portions of Mineral Survey No. 1785, in sections 32 and 33, Township 12 ½ North, Range 1 West, accepted May 24, 2011, for Group 1071, Arizona.

This plat was prepared at the request of the United States Forest Service.

A person or party who wishes to protest against any of these surveys must file a written protest with the Arizona State Director, Bureau of Land Management, stating that they wish to protest.

A statement of reasons for a protest may be filed with the notice of protest to the State Director, or the statement of reasons must be filed with the State Director within thirty (30) days after the protest is filed.

Danny A. West,
Chief Cadastral Surveyor of Arizona.

[FR Doc. 2011-14635 Filed 6-13-11; 8:45 am]

BILLING CODE 4310-32-P